DEPARTMENT OF TRANSPORTATION

Federal Aviation Administration

Notice of Intent To Rule on Request To Release Airport Property at the McGregor Executive Airport, McGregor, TX

AGENCY: Federal Aviation Administration (FAA) DOT.

ACTION: Notice of request to release airport property.

SUMMARY: The FAA proposes to rule and invite public comment on the release of land at the McGregor Executive Airport under the provisions of Section 125 of the Wendell H. Ford Aviation Investment Reform Act for the 21st Century (AIR 21).

DATES: Comments must be received on or before January 23, 2001.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. Bill Dake, City Manager, at the following address: City of McGregor, P.O. Box 192, McGregor, Texas 76657.

FOR FURTHER INFORMATION CONTACT: Ms. Kimchi Hoang, Program Manager, Federal Aviation Administration, Texas Airports Development Office, ASW-650, 2601 Meacham Boulevard, Fort Worth, Texas 76193-0650.

The request to release property may be reviewed in person at this same location.

SUPPLEMENTARY INFORMATION: The FAA invites public comment on the request to release property at the McGregor Executive Airport under the provisions of the AIR 21.

On December 19, 2000, the FAA determined that the request to release property at McGregor Executive Airport, submitted by the City, met the procedural requirements of the Federal Aviation Regulations, Part 155. The FAA may approve the request, in whole or in part, no later than February 19, 2001.

The following is a brief overview of the request: The City of McGregor requests the release of 10.94 acres of non-aeronautical airport property. The land is part of a War Assets Administration deed of airport property to the City in 1947. The release of property will allow funding for maintenance, operation and development of the airport.

The sale is estimated to provide $158,000 to be used for:

1. Airport maintenance, operation and development.

2. Funding for the construction of a new 10 to 12 units T-hangar for aircraft storage.

Any person may inspect the request in person at the FAA office listed above under FOR FURTHER INFORMATION CONTACT.

In addition, any person may, upon request, inspect the application, notice and other documents relevant to the application in person at the City of McGregor.

Issued in Fort Worth, Texas on December 19, 2000.
Joseph G. Washington,
Acting Manager, Airports Division.

[FR Doc. 01-707 Filed 1-9-01; 8:45am]

BILLING CODE 4910-13-M s